DEPARTMENT OF DEFENSE

Department of the Navy

Notice of Deadline for Submission of Donation Applications for the ex-TICONDEROGA (CG 47)

AGENCY: Department of the Navy, DoD.

ACTION: Notice.

SUMMARY: The Department of the Navy (DON) hereby gives notice of a requirement to submit donation applications to obtain the guided missile cruiser ex-TICONDEROGA (CG 47) for use as a static museum/memorial for public display under the authority of 10 U.S.C. 7306. The ex-TICONDEROGA was struck from the Naval Vessel Register on August 12, 2004 and is located at the NAVSEA Inactive Ships On-Site Maintenance Office, Philadelphia, PA. Eligible recipients include: (1) Any State, Commonwealth, or possession of the United States or any municipal corporation or political subdivision thereof; (2) the District of Columbia; or (3) any not-for-profit or non-profit entity.

The transfer of a vessel for donation under 10 U.S.C. 7306 shall be at no cost to the United States Government.

The donee will be required to maintain the vessel as a static display in a condition that is satisfactory to the Secretary of the Navy.

A letter of intent will be required within 45 days from the date of this notice and all donation applications must be received by January 31, 2008. The DON will foreclose consideration of donation of ex-TICONDEROGA to any entity that does not submit a letter of intent to the DON within 45 days of the date of this notice.

Prospective applicants must submit a letter of intent to the Navy Inactive Ships Program office within 45 days of this Federal Register notice. The letter of intent must:

a. Identify the specific vessel sought for donation;

b. Include a statement of the proposed use for the vessel;

c. Identify the proposed berthing location;

d. If the applicant is not a state, territory or possession of the United States, or a political subdivision or municipal corporation thereof, or the District of Columbia, provide a copy of a determination letter by the Internal Revenue Service that the applicant is exempt from tax under the Internal Revenue Code, or submit evidence that the applicant has filed the appropriate documentation in order to obtain tax exempt status;

e. If the applicant asserts that it is a corporation or association whose Charter and/or Articles of Incorporation denies it the right to operate for profit, provide a properly authenticated copy of the Charter, Articles of Incorporation, and a copy of the organization's By-laws;

f. Provide a notarized copy of the resolution or other action of the applicant's governing board authorizing the person signing the application to represent the organization and to sign on its behalf for the purpose of obtaining a vessel; and

g. Provide written affirmation that the prospective applicant can submit a complete ship donation application to the DON, compliant with the DON's application requirements, by January 31, 2008.

Upon receipt of the letter of intent, the DON will contact the prospective applicant(s) to ensure a full understanding of the application requirements, which will be available early September 2007, on the DON Ship Donation Web site located at: http://peoships.crane.navy.mil/donation/. This information was previously available for several years at http://navsea.navy.mil/NDP and is being transitioned to a new server.

Qualified organizations who submit a letter of intent for the ex-TICONDEROGA (CG 47) must submit a complete application to the DON by January 31, 2008, comprised of a Business/Financial Plan, Mooring Plan, Towing Plan, Maintenance Plan, Environmental Plan, Curatorial/Museum Plan, and a Community Support Plan. These plans must include the following information:

1. Business/Financial Plan: The Business/Financial Plan must detail the estimated start-up and operating costs, and provide detailed evidence of firm financing adequate to cover these costs. Start-up costs include towing, mooring (this includes but not limited to the cost of acquiring and improving facilities, and dredging if required), vessel restoration, museum development, and meeting environmental requirements (including permitting fees and expenses) etc. Operating costs are those costs associated with operating and maintaining the vessel as a museum/memorial, including rent, utilities, personnel, insurance, periodic dry-docking, etc. Firm financing means available funding to ensure the first five years of operation and future stability for long-term operation. This can include pledges, loans, gifts, bonds (except revenue bonds), funds on deposit at a financial institution, or any combination of the above. The applicant must also provide income projections from sources such as individual and group admissions, facility rental fees and gift shop revenues sufficient to cover the estimated operating expenses.

2. Mooring Plan: The Mooring Plan describes how the vessel will be secured at its permanent display site during normal and extreme weather conditions (including the 100-year storm event) to prevent damage to the vessel, its mooring system, the pier, and surrounding facilities. Provide evidence of availability of a facility for permanent mooring of the vessel, either by ownership, existing lease, or by letter from the facility owners indicating a statement of intent to utilize such facilities. Address any requirement to obtain site-specific permits and/or municipality approvals required for the facility, to include but not limited to, Port Authority and Army Corps of Engineers approvals/permits, where required. The mooring location must be acceptable to the DON and not obstruct or interfere with navigation.

3. Towing Plan: The Towing Plan describes how the vessel will be prepared for tow and safely towed from its present location to the permanent display site proposed by the applicant. The Towing Plan must comply with all U.S. Navy Tow Manual requirements, which can be found at http://www.supsalv.org/pdf/towman.pdf.

4. Environmental Plan: The Environmental Plan describes how the applicant will comply with all Federal, State and local environmental and public health & safety regulations and permit requirements. The applicant must describe how it will address the possibility of invasive species on the underwater hull and measures to protect the marine environment of the proposed berthing location from invasive species. The applicant also should provide information necessary for the DON to complete an environmental assessment of the donation as required by the National Environmental Policy Act, including the impact of the donation on the natural and man-made environment, local infrastructure, and evaluation of the socio-economic consequences of the donation.

5. Maintenance Plan: The Maintenance Plan must describe plans for long-term and short-term maintenance of the vessel, including preservation and maintenance schedule, underwater hull inspections, emergency response and fire/flood/intrusion control, pest control, security, periodic dry-docking, and qualifications of the maintenance team.

6. Curatorial/Museum Plan: The Curatorial/Museum Plan includes three parts: Staff qualifications, a Collection Management Plan and Historical Management Plan. The Curatorial/Museum Plan must describe the qualifications and responsibilities for a professional curator and supporting staff. The Collection Management Plan must define the museum's scope of artifact collection, and the collection management activity (documentation, accession and deaccession policies, risk management and insurance, collections care and control, loans, etc.). The Historical Management Plan must provide a description of the historical context in which the vessel will be displayed. The plan should also describe proposed exhibits, as well as vessel restoration plans. The applicant must conform to standard ethical codes of conduct for museum organizations.

7. The Community Support Plan must include evidence of local support. Evidence of regional support should also be provided. This includes letters of endorsement from adjacent communities and counties, cities and/or States. Also describe how the location of the vessel will encourage public visitation and tourism, become an integral part of the community, and how the vessel will enhance community development. The Community Support Plan must also describe the benefit to the DON, including, but not limited to, addressing how the prospective donee may support DON recruiting efforts, the connection between the DON and the proposed berthing location, how veterans associations in the area are willing to support the vessel, how the prospective donee will honor veterans' contributions to the United States, and how the exhibit will commemorate those contributions and showcase naval traditions.

The relative importance of each area that must be addressed in the donation application is as follows: Business/Financial Plan and Mooring Plan are the most important criteria and are equal in importance. The Towing Plan, Maintenance Plan and Environmental Plan are individually of equal importance but of lesser importance than the Business/Financial and Mooring Plans. The Curatorial/Museum Plan and Community Support Plan are of equal importance, but of lesser importance than the aforementioned plans.

Evaluation of the application(s) will be performed by the DON to ensure the application(s) are compliant with the minimum acceptable application criterion and requirements. In the event of multiple compliant applications for the same vessel, the DON will perform a comparative evaluation of the applications to determine the best-qualified applicant. The adjectival ratings to be used for each criterion include: Outstanding, Good, Satisfactory, Marginal, and Unsatisfactory. The Secretary of the Navy, or his designee, will make the final donation decision.

Additional information concerning the application process and requirements will be available early September 2007, on the DON Ship Donation Web site located at http://peoships.crane.navy.mil/donation/. This information was previously available for several years at http://navsea.navy.mil/NDP and is being transitioned to a new server.

The complete application must be submitted in hard copy and electronically on a CD to the Navy Inactive Ships Program Office by January 31, 2008. In the absence of a viable donation application, the DON reserves the right to remove ex-TICONDEROGA from donation consideration and proceed with disposal of the vessel.

For Further Information and Submission of Ship Donation Applications, Contact: Ms. Gloria Carvalho of the Naval Sea Systems Command, Navy Inactive Ships Program (PMS 333), telephone number 202-781-0485. Mailed correspondence should be addressed to: The Columbia Group, 1201 M Street, SE., Suite 010, Washington, DC 20003; marked for Ms. Gloria Carvalho (PMS 333).

Dated: August 23, 2007.
T.M. Cruz,
Lieutenant, Judge Advocate General's Corps, U.S. Navy, Federal Register Liaison Officer.

[FR Doc. E7-17209 Filed 8-29-07; 8:45 am]

BILLING CODE 3810-FF-P